DEPARTMENT OF DEFENSE

Department of the Air Force

Notice of Active Duty Service Determinations for Civilian or Contractual Groups

AGENCY: Office of the Secretary of the Air Force, DOD.

ACTION: Notice.

On May 22, 2015, the Secretary of the Air Force, acting as Executive Agent of the Secretary of Defense, determined that the service of the group known as: “U.S. and Foreign Employees of Air America, Inc., who operated fixed wing or helicopter aircraft in support of U.S. Army Special Forces in Laos as part of Operation Hot Foot and Operation White Star from 1959-1963; and the U.S. and Foreign Employees of Air America, Inc., who operated fixed wing and helicopter aircraft in direct support of the U.S. Air Force operating in Laos in the Steve Canyon Program (Ravens), SAR and direct support for the Site 85 Operation, High Altitude Relay Project (HARP), Photo Reconnaissance collaboration with 7th/13th Air Force and CIA, and with the Search And Rescue (SAR) Operations for U.S. Military flight crews from 1964 through 1974, who were necessary to support those missions and held supervisory positions” shall not be considered “active duty” for purposes of all laws administered by the Department of Veterans Affairs.

FOR FURTHER INFORMATION CONTACT: Mr. Bruce T. Brown, Executive Secretary, DoD Civilian/Military Service Review Board, 1500 West Perimeter Road, Suite 3700, Joint Base Andrews, NAF Washington, MD 20762-7002, 240-612-5364, bruce.t.brown12.civ@mail.mil.

Henry Williams Jr.,
Acting Air Force Federal Register Liaison Officer.

[FR Doc. 2015-14383 Filed 6-11-15; 8:45 am]

BILLING CODE 5001-10-P